Title 3—

The President

Proclamation 10415 of June 10, 2022

Flag Day and National Flag Week, 2022

By the President of the United States of America

A Proclamation

On June 14, 1777, the Continental Congress passed a resolution adopting a flag for our new Nation—the United States of America. The resolution specified 13 alternating red and white stripes with 13 stars on a blue field. The stars represented the colonies that declared independence, and in the years since, they have grown into 50 United States which comprise our great country today. For centuries, mariners looked to the stars to guide them across the seas, just as Americans and people across the globe look to our flag as a guiding symbol of freedom, opportunity, and hope. On Flag Day and during National Flag Week, we celebrate the journey of progress represented in our banner and pay tribute to the inspiration it gives Americans at home and abroad.

Our flag belongs to all Americans, and its red, white, and blue colors are woven into a rich tapestry of different cultures, backgrounds, and beliefs which connects us and honors our shared history. Old Glory has flown around the world in times of war and in times of peace. It has traveled to the Moon and to Mars. It has sailed on ships and flown on planes. It waves high above the White House, courthouses, post offices, schools, and homes across the Nation, and also above our embassies and military bases overseas—an enduring beacon of democracy.

From the Revolutionary War to the modern age, American Service members have fought bravely under the symbol of our flag, and those who give the last full measure of devotion are wrapped in its broad stripes and bright stars as they are laid to rest. We honor those who serve our country in uniform and pay homage to those who have made that ultimate sacrifice.

Every day, the American Flag instills pride—reminding us of the ideals upon which our Nation was founded and the values for which we stand. As we pledge our allegiance to the Star-Spangled Banner, and the legacy it holds in our history, let us continue the work of perfecting our Union so that, together, we can deliver the promise of America for all Americans.

To commemorate the adoption of our flag, the Congress, by joint resolution approved August 3, 1949, as amended (63 Stat. 492), designated June 14 of each year as “Flag Day” and requested the President issue an annual proclamation calling for its observance and for the display of the flag of the United States on all Federal Government buildings. The Congress also requested, by joint resolution approved June 9, 1966, as amended (80 Stat. 194), that the President issue annually a proclamation designating the week in which June 14 occurs as “National Flag Week” and calling upon all citizens of the United States to display the flag during that week.

NOW, THEREFORE, I, JOSEPH R. BIDEN JR., President of the United States of America, do hereby proclaim June 14, 2022, as Flag Day, and the week starting June 12, 2022, as National Flag Week. I direct the appropriate officials to display the flag on all Federal Government buildings during this week, and I urge all Americans to observe Flag Day and National Flag Week by displaying the flag and honoring all of our brave service members and revering those who gave their last full measure of devotion defending our freedoms. I encourage the people of the United States to observe with pride and all due ceremony those days from Flag Day through Independence Day, set aside by the Congress (89 Stat. 211), as a time to honor the American spirit, to celebrate our history and the foundational values we strive to uphold, and to publicly recite the Pledge of Allegiance to the Flag of the United States of America.

IN WITNESS WHEREOF, I have hereunto set my hand this tenth day of June, in the year of our Lord two thousand twenty-two, and of the Independence of the United States of America the two hundred and forty-sixth.

[FR Doc. 2022-12985

Filed 6-14-22; 8:45 am]

Billing code 3395-F2-P